DEPARTMENT OF AGRICULTURE

Animal and Plant Health Inspection Service

[Docket No. APHIS-2019-0071]

Notice of Request for Revision to and Extension of Approval of an Information Collection; Veterinary Services Field Operations Export Services Customer Service Survey Project

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection to evaluate service delivery by the Veterinary Services Field Operations Export Service Centers to the public.

DATES: We will consider all comments that we receive on or before December 31, 2019.

ADDRESSES: You may submit comments by either of the following methods:

• Federal eRulemaking Portal: Go to http://www.regulations.gov/#!docketDetail;D=APHIS-2019-0071.

• Postal Mail/Commercial Delivery: Send your comment to Docket No. APHIS-2019-0071, Regulatory Analysis and Development, PPD, APHIS, Station 3A-03.8, 4700 River Road, Unit 118, Riverdale, MD 20737-1238.

Supporting documents and any comments we receive on this docket may be viewed at http://www.regulations.gov/#!docketDetail;D=APHIS-2019-0071 or in our reading room, which is located in Room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the Veterinary Services Field Operations Export Services customer service survey project, contact Ms. Melinda Springer, Chief of Staff, VS, APHIS, Field Operations, 2150 Centre Avenue, Building B, Fort Collins, CO; (970) 494-7351. For more detailed information on the information collection, contact Mr. Joseph Moxey, APHIS' Information Collection Coordinator, at (301) 851-2483.

SUPPLEMENTARY INFORMATION: Title: Veterinary Services Field Operations Export Services Customer Service Survey Project.

OMB Control Number: 0579-0334.

Type of Request: Revision to and extension of approval of an information collection.

Abstract: The Animal and Plant Health Inspection Service (APHIS) of the U.S. Department of Agriculture, among other things, regulates and provides services related to the importation, interstate movement, and exportation of animals, animal products, and other articles to prevent the spread of pests and diseases of livestock. APHIS' Veterinary Services' (VS') Field Operations is the program unit that carries out these activities at the field level (through service centers, airports, and seaports) to protect animal health.

After performing a service for an individual or business, the Field Operations Export Service Centers conduct a survey to evaluate customer service. The survey consists of a short questionnaire in which respondents are asked to identify the type of customer they are (e.g., pet owners, animal importers/exporters, animal product and byproduct importers/exporters, users of quarantine facilities, and accredited veterinarians), and to rate the services received in terms of courtesy, timeliness, helpfulness, etc. Respondents are also asked to rate and provide comments concerning their overall experience. Completion of the questionnaire is voluntary and responses do not identify the individual respondent.

Field Operations uses the surveys to gain a general view of the public's perception of customer service at the service centers, airports, and seaports and identify areas in which VS can improve service delivery to the public and more efficiently meet the needs and expectations of customers.

Since the last approval of this collection by the Office of Management and Budget (OMB), we have changed the name from Veterinary Services Export Service Center Customer Service Survey to Veterinary Services Field Operations Export Services Customer Service Survey Project.

We are asking OMB to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.0402 hours per response.

Respondents: Members of the public who receive services from Veterinary Services (e.g., pet owners, animal importers/exporters, animal product and byproduct importers/exporters, users of quarantine facilities, and accredited veterinarians).

Estimated annual number of respondents: 15,050.

Estimated annual number of responses per respondent: 1.32.

Estimated annual number of responses: 19,850.

Estimated total annual burden on respondents: 797 hours. (Due to averaging, the total annual burden hours may not equal the product of the annual number of responses multiplied by the reporting burden per response.)

All responses to this notice will be summarized and included in the request for OMB approval. All comments will also become a matter of public record.

Done in Washington, DC, this 28th day of October 2019.
Kevin Shea,
Administrator, Animal and Plant Health Inspection Service.

[FR Doc. 2019-23904 Filed 10-31-19; 8:45 am]

BILLING CODE 3410-34-P